FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. Chapter 409 and 46 CFR part 515).

Persons knowing of any reason why the following applicants should not receive a license are requested to contact the Office of Transportation Intermediaries, Federal Maritime Commission, Washington, DC 20573.

Non-Vessel Operating Common Carrier Ocean Transportation Intermediary Applicants:

Blue Carrier Line, Inc., 2360 Hylan Blvd., Staten Island, NY 10306; Officer: Kenneth W. Whitman, President (Qualifying Individual).

Seagold (Private) Limited, 51 Timber Pond, Keamari, Karachi 75620-Pakistan; Officers: Seiraz Qureshi, Director (Qualifying Individual), G. N. Qureshi, Chief Executive.

Non-Vessel Operating Common Carrier and Ocean Freight Forwarder Transportation Intermediary Applicant:

Ven-Mex Cargo Corporation, 7215 NW 46th Street, Miami, FL 33166; Officers: Ernesto Ackerman, President (Qualifying Individual), Gisela Ackerman, Vice President.

Ocean Freight Forwarder—Ocean Transportation Intermediary Applicant:

Bison Global Logistics, 15508 Bratton Lane, Austin, TX 78728; Officers: Hans Falk, Vice President (Qualifying Individual), Mike McIntyre, President.

Dated: September 21, 2007.
Bryant L. VanBrakle,
Secretary.

[FR Doc. E7-18975 Filed 9-25-07; 8:45 am]

BILLING CODE 6730-01-P